DEPARTMENT OF TRANSPORTATION

National Highway Traffic Safety Administration

49 CFR Part 572

[Docket No. NHTSA-2000-8057]

RIN 2127-AH87

Anthropomorphic Test Dummy; Occupant Crash Protection

AGENCY: National Highway Traffic Safety Administration (NHTSA), Department of Transportation.

ACTION: Final rule.

SUMMARY: This document amends the neck lateral calibration specifications for the SID/HIII dummy. This dummy is employed in side impact pole tests which assess the effectiveness of dynamically-deployed head impact protection systems. In these tests, the subject vehicle is towed sideways into a pole in such a way that the center of gravity of the head of a seated SID/HIII dummy is aligned with the pole. Data collected from these tests are used to evaluate the performance of dynamically-deployed head impact protection systems.

This final rule responds to a petition for rulemaking filed by the Alliance of Automobile Manufacturers. That petition indicated that the neck lateral bending calibration corridor then specified for the SID/HIII dummy was defined incorrectly. After reviewing the petition, other data and comments submitted in response to the agency's prior notice of proposed rulemaking, the agency is revising the neck corridor specifications.

DATES: The amendment is effective on December 10, 2001.

Petitions for reconsideration of the final rule must be received by November 26, 2001.

ADDRESSES: Petitions for reconsideration should refer to the docket number and notice number of the notice and be submitted to: Administrator, room 5220, National Highway Traffic Safety Administration, 400 Seventh Street, SW., Washington, DC 20590.

FOR FURTHER INFORMATION CONTACT: For non-legal issues, you may call Stan Backaitis, Office of Crashworthiness Standards at 202-366-4912.

For legal issues, you may call Otto Matheke, Office of the Chief Counsel, at 202-366-2992.

You may send mail to both of these officials at National Highway Traffic Safety Administration, 400 Seventh St., SW., Washington, DC 20590.

SUPPLEMENTARY INFORMATION:

A. Background

Federal Motor Vehicle Safety Standard (FMVSS) No. 201, Head Impact Protection, provides a number of alternative performance requirements for manufacturers of vehicles with dynamically deployed interior head protection systems. One of these alternatives uses a test in which a vehicle is propelled sideways at a speed of 29 km/h (18 mph) into a 254 mm (10 inch) diameter rigid pole. A Part 572 Subpart M anthropomorphic test dummy is placed in the outboard front seat on the struck side of the vehicle.

The specifications for the Subpart M dummy, known as SID/HIII, were established by a final rule published in the Federal Register on August 4, 1998 (63 FR 41466). The SID/HIII is based on two other dummies: (1) the Part 572, Subpart F anthropomorphic test device (Side Impact Dummy or SID) that is used in testing under FMVSS 214, Side Impact Protection, and (2) the Part 572, Subpart E anthropomorphic test device (Hybrid III or HIII) that is used in testing under FMVSS 208, Occupant Crash Protection. The SID/HIII combines the head and neck of the Hybrid III with the torso and lower extremities of the Side Impact Dummy through the use of a redesigned neck to torso adapter bracket.

As the performance of the dummy is critical in any test, the specifications for the SID/HIII include calibration tests used to validate the characteristics of the individual device. One of these tests is the neck lateral bending corridor. It establishes maximum and minimum values for the dummy neck that it must meet when subjected to a calibration test in lateral impact direction.

B. Petition for Rulemaking

On July 28, 1999, the Alliance of Automobile Manufacturers (Alliance) submitted a Petition for Technical Correction indicating that the specified lateral impact neck corridor for the SID/HIII dummy does not reflect the neck stiffness of the Hybrid III dummy as originally specified by the SAE Side Impact Dummy Task Force (SIDTF) in the minutes of the Task Force meeting of April 15, 1989. According to the Alliance, subsequent to the April 15, 1989 meeting, the SIDTF made a transcription error when it drew up lateral calibration specifications for the Hybrid III neck. The Alliance stated that the erroneous calibration specifications were carried forward and incorporated by the SAE in the BioSID user manual in 1989. As the BioSid neck and the Hybrid III neck are identical in design but not in performance specifications, and the BioSid user manual was the only publication available to the public containing the lateral neck calibration values, the erroneous values were used by NHTSA in rulemaking for the SID/HIII dummy.

The agency proposed the SID/HIII dummy on December 8, 1997 and added it to Part 572 as Subpart M on August 4, 1998. As added to Part 572, the SID/HIII dummy incorporated the erroneous neck specifications that were contained in the BioSID user manual. As a result of this error, the lateral calibration corridor specified a neck that was stiffer in bending in the lateral direction than in the flexion and extension directions. Existing biomechanical data indicate that the human neck is not stiffer in the lateral direction, but actually has similar bending stiffness in both directions.

The Alliance petition of July 28, 1999, based on recommendations from the SAE Dummy Test and Equipment Subcommittee (DTES), suggested that the lateral neck calibration corridor be revised so the allowable neck bending stiffness moment for the SID/HIII in the lateral direction would be limited to a range between 73 N-m (54 ft-lbs) and 97 N-m (72 ft-lbs).

After receiving the Alliance petition, the agency reviewed the data and methodology used by that organization to determine the adequacy of the recommended change to the lateral neck calibration corridor. NHTSA's analysis of the corridor suggested by the Alliance, revealed inconsistencies between the Alliance proposed corridor and the corridor specifications recommended by the DTES after the DTES discovered and revised the earlier error. The agency found that the corridor suggested by the Alliance was broader than could be justified by biomechanical data and would likely result in necks that would be too stiff as well as have a wide degree of variability. Following discussions between agency representatives and the Alliance regarding these problems, the Alliance submitted a letter to the agency on January 12, 2000, indicating that it wished to revise its petition of July 28, 1999, and substitute new corridor specifications. The specifications suggested by the Alliance on January 12, 2000, along with the current specifications for the SID/HIII are presented below:

| Current SID/HIII | Alliance suggestion
Maximum rotation (degrees) | 64-78 | 66-82
Decay time from max rotation to 0 (ms) | 50-70 | 58-67
Time between max moment and max rotation (ms) | 0-20 | 2-15
Max moment at occipital condyles (N-m) | 88-108 | 73-88
Decay time from max moment to 0 (ms) | 40-60 | 49-63

C. Notice of Proposed Rulemaking

After consideration of the Alliance petition and the revised specifications suggested by the Alliance on January 12, 2000, the agency issued a notice of proposed rulemaking (NPRM) that was published in the Federal Register on November 29, 2000 (65 FR 71081). In that notice, NHTSA proposed amending the lateral neck calibration corridor for the SID/HIII dummy.

NHTSA's proposal was based on the review of the calibration data submitted by the Alliance and the agency's own calibration tests on a number of Hybrid III necks. NHTSA's own test program indicated that many of the specifications submitted by the Alliance on January 12, 2000, were valid. The agency's testing also indicated that the upper limits for the time between maximum moment and maximum rotation and the decay time from max rotation to zero rotation suggested by the Alliance should be increased by 1 ms from 15 ms to 16 ms and from 63 to 64 ms, respectively. NHTSA proposed that the neck lateral calibration corridor for the SID/HIII dummy be amended to specify the following values:

| NHTSA proposal
Maximum rotation (degrees) | 66-82
Decay time from max rotation to 0 (ms) | 58-67
Time between max moment and max rotation (ms) | 2-16
Max moment at occipital condyles (N-m) | 73-88
Decay time from max moment to 0(ms) | 49-64

D. Comments Received in Response to the NPRM

Those submitting comments in response to the NPRM supported the proposed change in the neck calibration corridor. The agency received comments from the original petitioner, the Alliance, and one manufacturer, General Motors (GM). The Alliance simply indicated that it supported the proposed change. GM also indicated that it supported the proposal.

E. Final Rule

NHTSA is adopting the neck calibration corridor proposed in the November 29, 2000 NPRM. The agency notes that the comments submitted in response to the NPRM indicate support for adopting the proposal without any further modification. NHTSA has also concluded that the neck calibration corridor values proposed in the NPRM are the appropriate values and therefore adopts them without further change.

Rulemaking Analyses and Notices

A. Executive Order 12866 and DOT Regulatory Policies and Procedures

NHTSA has considered the impact of this rulemaking action under Executive Order 12866 and the Department of Transportation's regulatory policies and procedures. This rulemaking document was not reviewed by the Office of Management and Budget under E.O. 12866, “Regulatory Planning and Review.” The rulemaking action has been determined not to be significant under the Department's regulatory policies and procedures.

This document amends 49 CFR part 572 by modifying previous specifications for calibrating the dummy's neck to ensure that accurate and reliable data are generated in testing. The final rule affects only those businesses that choose to manufacture or test with the dummy. It does not impose any requirements on anyone.

We believe that the economic impacts of this final rule are limited to the costs of recalibrating and perhaps modifying existing dummy necks. We estimate that these one-time costs are limited to less than $100 per dummy.

Because the economic impacts of this proposal are so minimal, a full regulatory evaluation is not warranted.

B. Regulatory Flexibility Act

NHTSA has considered the effects of this rulemaking action under the Regulatory Flexibility Act (5 U.S.C. 601 et seq.) I hereby certify that the final rule does not have a significant economic impact on a substantial number of small entities. This final rule modifies existing specifications for a dummy test device used by manufacturers if they decide to employ an optional test procedure under Standard 201. As noted above, the one-time costs associated with the changes to the neck lateral calibration corridor are minimal. Further, this rule primarily affects passenger car and light truck manufacturers which are not small entities under 5 U.S.C. 605(b). The Small Business Administration's regulations at 13 CFR part 121 define a small business, in part, as a business entity “which operates primarily within the United States.” (13 CFR 121.105(a)). The agency estimates that there are at most five small manufacturers of passenger cars in the U.S. and no small manufacturers of light trucks, producing a combined total of at most 500 cars each year. These small manufacturers, if they choose to perform the optional side impact pole test that employs this particular test device, will have to use the neck lateral calibration corridor when validating the dummy for use in testing. As noted above, the agency believes that any costs associated with the use of the calibration corridor are minimal. Further, most small entities do not perform full scale crash tests themselves, but instead rely on vehicle manufacturers or test laboratories to perform such tests. Both manufacturers and test laboratories are likely to have recalibrated dummy necks readily available at no increased cost when performing testing for small manufacturers.

For these reasons, NHTSA believes that this final rule does not have a significant impact on any small business.

C. National Environmental Policy Act

NHTSA has analyzed this final rule for the purposes of the National Environmental Policy Act and determined that it does not have any significant impact on the quality of the human environment.

D. Executive Order 13132 (Federalism)

The agency has analyzed this rulemaking in accordance with the principles and criteria contained in Executive Order 13132 and has determined that it does not have sufficient federalism implications to warrant consultation with State and local officials or the preparation of a federalism summary impact statement. The final rule has no substantial effects on the States, or on the current Federal-State relationship, or on the current distribution of power and responsibilities among the various local officials.

E. Unfunded Mandates Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This final rule does not meet the definition of a Federal mandate because it does not impose requirements on anyone. In addition, annual expenditures will not exceed the $100 million threshold.

F. Executive Order 12778 (Civil Justice Reform)

This final rule does not have any retroactive effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

G. Paperwork Reduction Act

In accordance with the Paperwork Reduction Act of 1980 (Pub. L. 96-511), there are no requirements for information collection associated with this final rule.

H. National Technology Transfer and Advancement Act

Section 12(d) of the National Technology Transfer and Advancement Act of 1995 (NTTAA), Public Law 104-113, section 12(d) (15 U.S.C. 272) directs us to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

The neck lateral calibration corridor that is the subject of this document was developed under the auspices of the SAE Dummy Test and Equipment Subcommittee. The following voluntary consensus standards have been used in developing the neck lateral calibration corridor: SAE J211 Recommended Practice for Crash Tests Instrumentation, SAE J1460 Human Mechanical Response Characteristics, and ISO/TR 9790-2—Road Vehicles—Anthropomorphic Side Impact Dummy—Part 2: Lateral Neck Impact Response Requirements to Assess Biofidelity of Dummy.

I. Executive Order 13045

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This final rule is not subject to the Executive Order because it is not economically significant as defined in E.O. 12866, and does not have a disproportionate effect on children. The final rule changes the calibration values for a test dummy neck. Other than ensuring that the test dummy more accurately replicates the adult human neck in side impacts, the final rule has no impact on children.

List of Subjects in 49 CFR Part 572

Motor vehicle safety.

In consideration of the foregoing, NHTSA amends 49 CFR Part 572 as follows:

PART 572—ANTHROPOMORPHIC TEST DUMMIES

1. The authority citation for Part 572 continues to read as follows:

Authority: 49 U.S.C. 332, 30111, 30115, 30117; and 30166 delegation of authority at 49 CFR 1.50.

2. Sections 572.113(b)(2) (b)(3) and (b)(4) are revised to read as follows:

* * * * *

§ 572.113 Neck assembly.

* * * * *

(b) * * *

(2) The maximum rotation of the midsagittal plane of the head shall be 66 to 82 degrees with respect to the pendulum's longitudinal centerline. The decaying head rotation vs. time curve shall cross the zero angle between 58 to 67 ms after reaching its peak value.

(3) The moment about the x-axis which coincides with the midsagittal plane of the head at the level of the occipital condyles shall have a maximum value between 73 and 88 Nm. The decaying moment vs. time curve shall first cross zero moment between 49 and 64 ms after reaching its peak value. The following formula is to be used to calculate the moment about the occipital condyles when using the six-axis neck transducer:

M = Mx + 0.01778 Fy

Where Mx and Fy are the moment and force measured by the transducer and expressed in terms of Nm and N, respectively.

(4) The maximum rotation of the head with respect to the pendulum's longitudinal centerline shall occur between 2 and 16 ms after peak moment.

* * * * *

Issued on October 4, 2001.
L. Robert Shelton,
Executive Director.

[FR Doc. 01-25427 Filed 10-10-01; 8:45 am]

BILLING CODE 4910-59-P